DEPARTMENT OF AGRICULTURE

Agricultural Marketing Service

[Doc. No. ST04-06]

Request for an Extension and Revision to a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget, for an extension of and revision to the currently approved information collection for Recordkeeping Requirements for Certified Applicators of Federally Restricted Use Pesticides (7 CFR Part 110).

DATES: Comments received by December 20, 2004, will be considered.

FOR FURTHER INFORMATION CONTACT: Contact Bonnie Poli, Pesticide Records Branch, Science and Technology, Agricultural Marketing Service, Suite 203, 8609 Sudley Road, Manassas, Virginia 20110-4582, Telephone (703) 330-7826, Fax (703) 330-6110.

SUPPLEMENTARY INFORMATION: Title: Recordkeeping Requirements for Certified Applicators of Federally Restricted Use Pesticides (7 CFR Part 110).

OMB Number: 0581-0164.

Expiration Date of Approval: June 30, 2005.

Type of Request: Extension and revision of a currently approved information collection.

Abstract: The regulations, “Recordkeeping Requirements for Certified Applicators of Federally Restricted Use Pesticides” require certified pesticide applicators to maintain records of federally restricted use pesticide applications for a period of two years. The regulations also provide for access to pesticide records or record information by Federal or State officials, or by licensed health care professionals who are needed to treat an individual who may have been exposed to restricted use pesticides, and penalties for enforcement of the recordkeeping and access provisions.

The Food, Agriculture, Conservation, and Trade Act of 1990, (Pub. L. 101-624; 7 U.S.C. 136i-1), referred to as the FACT Act, directs and authorizes the Department to develop regulations which establish requirements for recordkeeping by all certified applicators of federally restricted use pesticides. A certified applicator is an individual who is certified by the Environmental Protection Agency (EPA) or a State under cooperative agreement with EPA to use or supervise the use of restricted use pesticides.

Section 1491 of the FACT Act directs and authorizes the Department of Agriculture to ensure compliance with regulations as the Department may prescribe, including levying penalties, for failure to comply with such regulations.

Because this is a regulatory program with enforcement responsibility, USDA must ensure that certified applicators are maintaining restricted use pesticide application records for the two year period required by the FACT Act. To accomplish this, USDA must collect information through personal inspections of certified applicator's restricted use pesticide application records.

The information collected is used only by authorized representatives of the USDA (AMS, Science and Technology national staff, other designated Federal employees, and designated State supervisors and their staffs), who are delegated authority to access the records pursuant to section 1491, subsection (b) of the FACT Act. The information is used to administer the Federal Pesticide Recordkeeping Program. The Agency is the primary user of the information, and the secondary user is each designated State agency which has a cooperative agreement with AMS.

Estimate of Burden: Public reporting burden for this collection of information is estimated as follows:

(a) Approximately 372,675 certified private applicators (recordkeepers) apply restricted use pesticides. It is estimated that certified private applicators average .415 hours per recordkeeper for a total of 154,660 burden hours. This is a 9,999 decrease in burden hours from the previous collection request due to fewer private applicators in 2003. Of the 372,675 certified private applicators, approximately 4,600 are selected annually for recordkeeping inspections. It is estimated that a private applicator that is subject to a pesticide record inspection has an annual burden of .85 hours, which contributes to a total annual burden of 3,910 hours.

(b) There are approximately 308,443 certified commercial applicators nationally who are required to provide copies of restricted use pesticide application records to their clients. It is estimated that certified commercial applicators have a total annual burden of 1,520,007 hours.

(c) It is estimated that State agency personnel who work through cooperative agreements with AMS to inspect certified private applicator's records have a total annual burden of 8,976 hours. This is a decrease of 2,044 burden hours from the previous collection request due to fewer states participating in cooperative agreements with AMS.

Respondents: Certified private and commercial applicators, State governments or employees, and Federal agencies or employees.

Estimated Number of Respondents: 685,786—The total number of respondents includes certified commercial applicators, certified private applicators (recordkeepers) and designated State agency personnel utilized to inspect certified private applicator's records.

Estimated Number of Responses per Respondent: The estimated number of responses per respondent is as follows:

(a) It is estimated that certified private applicators (recordkeepers), record on an average 5 restricted use pesticide application records annually.

(b) It is estimated that certified commercial applicators provide 616 copies of restricted use pesticide records to their clients annually.

(c) State agency personnel, who work under cooperative agreements with AMS to conduct restricted use pesticide records inspections, have approximately 4,420 responses annually.

Estimated Total Annual Burden on Respondents: 1,687,553. This revision in the Total Annual Burden on Respondents decreases the current burden by 12,043 hours due to the decrease in the number of private applicators required to keep records and fewer states participating in the cooperative program.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Bonnie Poli, Pesticide Records Branch, Science and Technology, Agricultural Marketing Service, Suite 203, 8609 Sudley Road, Manassas, Virginia 20110-4582, Telephone (703) 330-7826, Fax (703) 330-6110. All comments received will be available for public inspection during regular business hours at the same address.

All responses to this notice will be summarized and included in the request for OMB approval. All comments will become a matter of public record.

Dated: October 14, 2004.
A. J. Yates,
Administrator, Agricultural Marketing Service.

[FR Doc. 04-23418 Filed 10-19-04; 8:45 am]

BILLING CODE 3410-02-P